DEPARTMENT OF HEALTH AND HUMAN SERVICES

Centers for Medicare and Medicaid Services

[Document Identifier: CMS-10192]

Emergency Clearance: Public Information Collection Requirements Submitted to the Office of Management and Budget (OMB)

AGENCY: Center for Medicare and Medicaid Services, HHS.

In compliance with the requirement of section 3506(c)(2)(A) of the Paperwork Reduction Act of 1995, the Centers for Medicare and Medicaid Services (CMS), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

We are, however, requesting an emergency review of the information collection referenced below. In compliance with the requirement of section 3506(c)(2)(A) of the Paperwork Reduction Act of 1995, we have submitted to the Office of Management and Budget (OMB) the following requirements for emergency review. We are requesting an emergency review because the collection of this information is needed before the expiration of the normal time limits under OMB's regulations at 5 CFR part 1320. This is necessary to ensure compliance with an initiative of the Administration. We cannot reasonably comply with the normal clearance procedures because the use of the normal clearance process would delay the implementation of our survey, which in turn would jeopardize our ability to complete the Report to Congress by August 8, 2006.

1. Type of Information Collection Request: New Collection; Title of Information Collection: Strategic and Implementing Plan Regarding Specialty Hospitals—Section 5006 of the Deficit Reduction Act (DRA) of 2005; Use: Section 5006 of the DRA requires CMS to develop a strategic and implementing plan regarding physician-owned specialty hospitals. CMS is required to analyze whether physician investment in specialty hospitals is proportional, whether the investment is a bona fide investment, and whether the Secretary should require annual disclosure, and the provision of care to Medicaid patients, patients receiving medical assistance under a demonstration, and patients receiving charity care, and lastly appropriate enforcement; Form Number: CMS-10192 (OMB#: 0938-NEW); Frequency: Reporting—As requested; Affected Public: Business or other for-profit, Not-for-profit institutions, Federal government; Number of Respondents: 400; Total Annual Responses: 400; Total Annual Hours: 1600.

CMS is requesting OMB review and approval of this collection by May 1, 2006, with a 180-day approval period. Written comments and recommendation will be considered from the public if received by the individuals designated below by May 1, 2006.

To obtain copies of the supporting statement and any related forms for the proposed paperwork collections referenced above, access CMS' Web site address at http://www.cms.hhs.gov/regulations/pra or e-mail your request, including your address, phone number, OMB number, and CMS document identifier, to Paperwork@cms.hhs.gov, or call the Reports Clearance Office on (410) 786-1326.

Interested persons are invited to send comments regarding the burden or any other aspect of these collections of information requirements. However, as noted above, comments on these information collection and recordkeeping requirements must be mailed and/or faxed to the designees referenced below by May 1, 2006:

Centers for Medicare and Medicaid Services, Office of Strategic Operations and Regulatory Affairs, Room C4-26-05, 7500 Security Boulevard, Baltimore, MD 21244-1850, Attn: William N. Parham, III; and,

OMB Human Resources and Housing Branch, Attention: Carolyn Lovett, New Executive Office Building, Room 10235, Washington, DC 20503, Fax Number: (202) 395-6974.

Dated: April 12, 2006.
Michelle Shortt,
Director, Regulations Development Group, Office of Strategic Operations and Regulatory Affairs.

[FR Doc. E6-5831 Filed 4-20-06; 8:45 am]

BILLING CODE 4120-01-P